DEPARTMENT OF HEALTH AND HUMAN SERVICES

National Institutes of Health

National Center for Alternative Medicine; Federal Assistance to the Thomas Jefferson University Hospital Center for Integrative Medicine

ACTION: Notice of grant award.

SUMMARY: The National Center for Complementary and Alternative Medicine (NCCAM), National Institutes of Health (NIH), awarded a grant for $500,000 in fiscal year (FY) 2001 to Thomas Jefferson University Hospital in Philadelphia, PA. The grant provides federal assistance to support the Center for Integrative Medicine. The award was made from funds appropriated under Public Law 106-544 (Health and Human Services Appropriation Act for FY 2001).

Availability of Funds: Total costs of $500,000 were made available for obligation to support this project for a single project/budget period beginning in FY 2001, from September 30, 2001 to August 31, 2002.

Other Award Information: This is intended to be a one-time program.

FOR FURTHER INFORMATION CONTACT: Victoria C. Carper, MPA Grants Management Officer, National Center for Complementary and Alternative Medicine, 6707 Democracy Blvd. Bethesda, MD 20892; telephone 301-594-9102.

Dated: September 9, 2001.
Yvonne Maddox,
Acting Deputy Director, National Institutes of Health.

[FR Doc. 01-26219 Filed 10-17-01; 8:45 am]

BILLING CODE 4140-01-M